DEPARTMENT OF THE TREASURY

Internal Revenue Service

26 CFR Parts 1, 31, 46, 301

[REG-107100-00]

RINs 1545-AY26, 1545-BA00, 1545-AY83, 1545-BA38, 1545-AY93, 1545-BA36 and 1545-AW92, 1545-AY82, 1545-AY87, 1545-BA06, 1545-BA09, 1545-BA26, 1545-AY94, 1545-BA25

Miscellaneous Federal Tax Matters; Correction

AGENCY: Internal Revenue Service (IRS), Treasury.

ACTION: Correction to notices of proposed rulemaking.

SUMMARY: This document corrects the language referring taxpayers to the IRS Internet site for several notices of proposed rulemaking published in the Federal Register. The proposed regulations that need correction are identified in the table set out in this correction notice.

FOR FURTHER INFORMATION CONTACT: Donna Poindexter, Associate Chief Counsel (Income Tax and Accounting), (202) 622-7180 (not a toll-free number).

SUPPLEMENTARY INFORMATION:

Background

On various dates from November 2001 through February 2002, several notices of proposed rulemaking were published in the Federal Register that contained inaccurate language referring taxpayers to the IRS Home Page and the IRS Internet site address. This document corrects this language.

Need for Correction

For the documents listed in the table, the inaccurate language and IRS Internet site address published in the notices of proposed rulemaking is misleading and in need of correction.

Correction of Publications

Accordingly, for each entry listed in the table, remove the language from the ADDRESSES caption in the preamble as set out in the “Remove” column and add the language in the “Add” column in its place.

Project No. | Subject | Date Published | Citation | Remove | Add
REG-107100-00 | Disallowance of Deductions and Credits for Failure to File Timely Return | 01-29-02 | 67 FR 4217 | Alternatively, taxpayers may submit comments electronically via the Internet by selecting the “Tax Regs” option on the IRS Home Page, or by submitting comments directly to the IRS Internet site at http://www.irs.ustreas.gov/tax_regs/regs list.html | Alternatively, taxpayers may submit electronic comments directly to the IRS Internet site at www.irs.gov/regs.
REG-125638-01 | Guidance Regarding Deduction and Capitalization of Expenditures | 01-24-02 | 67 FR 3461 | Alternatively, taxpayers may send submissions electronically via the Internet by selecting the “Tax Regs” option on the IRS Home Page, or directly to the IRS Internet site at http://www.irs.ustreas.gov/tax_regs/regslist.html | Alternatively, taxpayers may submit electronic comments directly to the IRS Internet site at www.irs.gov/regs.
REG-115054-01 | Treatment of Community Income for Certain Individuals Not Filing Joint Returns | 01-22-02 | 67 FR 2841 | Alternatively, taxpayers may submit comments electronically via the Internet by selecting the “Tax Regs” option on the IRS Home Page, or by submitting comments directly to the IRS Internet site at http://www.irs.ustreas.gov/tax_regs/regslist.html | Alternatively, taxpayers may submit electronic comments directly to the IRS Internet site at www.irs.gov/regs.
REG-159079-01 | Taxpayer Identification Number Rule Where Taxpayer Claims Treaty Rate and is Entitled to an Immediate Payment | 01-17-02 | 67 FR 2387 | Alternatively, taxpayers may submit comments electronically via the Internet by selecting the “Tax Regs” option of the IRS Home Page or by submitting comments directly to the IRS Internet site at http://www.irs.gov/tax_regs/regslist.html | Alternatively, taxpayers may submit electronic comments directly to the IRS Internet site at www.irs.gov/regs.
REG-125450-01 | Liability for Insurance Premium Excise Tax | 01-07-02 | 67 FR 707 | Alternatively, taxpayers may submit comments electronically via the Internet by selecting the “Tax Regs” option on the IRS Home Page, or by submitting comments directly to the IRS Internet site at http://www.irs.gov/tax_regs/regslist.html | Alternatively, taxpayers may submit electronic comments directly to the IRS Internet site at www.irs.gov/regs.
REG-142299-01 REG-209135-88 | Certain Transfer of Property to Regulated Investment Companies and Real Estate Investment Trusts | 01-02-02 | 67 FR 48 | Submissions may be hand delivered Monday through Friday between the hours of 8 a.m. and 5 p.m. to CC:ITA:RU [REG-142299-01], Courier's Desk, Internal Revenue Service, 1111 Constitution Avenue NW., Washington, DC or sent to the IRS Internet site at: http://www.irs.gov/tax_regs/regslist.html | Submissions may be hand delivered Monday through Friday between the hours of 8 a.m. and 5 p.m. to CC:ITA:RU [REG-142299-01], Courier's Desk, Internal Revenue Service, 1111 Constitution Avenue NW., Washington, DC. Alternatively, taxpayers may submit electronic comments directly to the IRS www.irs.gov/regs.
REG-112991-01 | Credit or Increasing Research Activities | 12-26-01 | 66 FR 66362 | Alternatively, taxpayers may submit comment electronically via the Internet by selecting the “Tax Regs” option of the IRS Home Page, or by submitting comments directly to the IRS Internet site at http://www.irs.gov/tax_regs/reglist.html | Alternatively, taxpayers may submit electronic comments directly to the IRS Internet site at www.irs.gov/regs.
REG-119436-01 | New Markets Tax Credit | 12-26-01 | 66 FR 66376 | Alternatively, taxpayers may send submissions electronically via the Internet by selecting the “Tax Regs” option on the IRS Internet site at http://www.irs.gov/tax_regs/regslist.html | Alternatively, taxpayers may submit electronic comments directly to the IRS Internet site at www.irs.gov/regs.
REG-126485-01 | Statutory Mergers and Consolidations | 11-15-01 | 66 FR 57400 | Alternatively, taxpayers may submit comments electronically via the Internet by selecting the Tax Reg option on the IRS Home Page, or by submitting comments directly to the IRS Internet site at http://www.irs.gov/tax_regs/reglist.html | Alternatively, taxpayers may submit electronic comments directly to the IRS Internet site at www.irs.gov/regs.
REG-137519-01 | Consolidated Returns; Applicability of Other Provisions of Law; Non-Applicability of Section 357(c) | 11-14-01 | 66 FR 57021 | Alternatively, taxpayers may submit comments electronically via the Internet by selecting the “Tax Regs” option of the IRS Home Page, or by submitting comments directly to the IRS Internet site at http://www.irs.gov/tax_regs/reglist.html | Alternatively, taxpayers may submit electronic comments directly to the IRS Internet site at www.irs.gov/regs.
REG-142686-01 | Application of the Federal Insurance Contributions Act, Federal Unemployment Tax Act, and Collection of Income Tax at Source to Statutory Stock Options | 01-28-02 | 67 FR 3846 | Alternatively, taxpayers may submit comments electronically via the Internet by selecting the “Tax Regs” option of the IRS Home Page, or by submitting comments directly to the IRS Internet site at http://www.irs.gov/tax_regs/reglist.html | Alternatively, taxpayers may submit electronic comments directly to the IRS Internet site at www.irs.gov/regs.
REG-125626-01 | Unit Livestock Price Method | 02-04-02 | 67 FR 5074 | Alternatively, taxpayers may submit comments electronically via the Internet by selecting the “Tax Regs” option of the IRS Home Page, or by submitting comments directly to the IRS Internet site at http://www.irs.gov/tax_regs/regslist.html | Alternatively, taxpayers may submit electronic comments directly to the IRS Internet site at www.irs.gov/regs.
REG-120135-01 | Definition of Agent for Certain Purposes | 02-01-02 | 67 FR 4938 | Alternatively, taxpayers may submit comments electronically via the Internet by selecting the “Tax Regs” option of the IRS Home Page, or by submitting comments directly to the IRS Internet site at http://www.irs.gov/tax_regs/regslist.html | Alternatively, taxpayers may submit electronic comments directly to the IRS Internet site at www.irs.gov/regs.

Cynthia Grigsby,
Chief, Regulations Unit, Associate Chief Counsel (Income Tax and Accounting).

[FR Doc. 02-4676 Filed 2-22-02; 2:59 pm]

BILLING CODE 4830-01-P